DEPARTMENT OF JUSTICE

Notice of Lodging of Consent Decree Under the Comprehensive Environmental Response, Compensation, and Liability Act

Notice is hereby given that on April 2, 2010, a proposed Consent Decree (“Consent Decree”) in United States v. Union Pacific Railroad Company, Civil Action No. 5:10cv251-FB was lodged with the United States District Court for the Western District of Texas.

In this action, the United States sought recovery, under 42 U.S.C. 9707(a)(4)(A), of past response costs incurred by the United States Environmental Protection Agency associated with a train derailment that occurred on June 28, 2004, near Macdona, Texas. A chlorine gas tanker ruptured, resulting in the release of chlorine gas into the environment. The Consent Decree resolves the claim between the United States and the Union Pacific Railroad Company for the amount of $480,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Union Pacific Railroad Company, D.J. Ref. 90-11-3-09267.

The Consent Decree may be examined at the Office of the United States Attorney, Western District of Texas, 601 NW Loop 410, Suite 600, San Antonio, Texas 78216, (210) 384-7300, and at U.S. EPA Region 6, 1445 Ross Avenue, Suite 1200, Dallas, Texas 75202, (800) 887-6063. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-8242 Filed 4-9-10; 8:45 am]

BILLING CODE 4410-15-P